DEPARTMENT OF ENERGY

Federal Energy Regulatory Commission

[Project No. 13885-000]

City of Tacoma, Washington; Notice of Preliminary Permit Application Accepted for Filing and Soliciting Comments and Motions to Intervene

On November 22, 2010, the City of Tacoma, Washington (Tacoma), filed an application for a preliminary permit, pursuant to section 4(f) of the Federal Power Act (FPA), proposing to study the feasibility of the Tacoma Water Supply Hydroelectric Project (Tacoma Project or project) to be located on the existing Tacoma Water Transmission System, in Pierce County, Washington.¹ The sole purpose of a preliminary permit, if issued, is to grant the permit holder priority to file a license application during the permit term. A preliminary permit does not authorize the permit holder to perform any land-disturbing activities or otherwise enter upon lands or waters owned by others without the owners' express permission.

¹ Tacoma filed a competing preliminary permit application in response to the notice for a preliminary permit application for the same site from Energy Exchange, Inc. for Project No. 13729. Energy Exchange, Inc. withdrew its application on January 6, 2011, which became effective January 21, 2011.

The proposed project has four sites that are being evaluated for potential hydropower installations, and would consist of the following:

Site #1—Pipeline 1 into McMillin Reservoir Alternative

(1) A new powerhouse, located at McMillan Reservoir, containing two turbine/generating units with a total installed capacity of 500 kilowatts (kW); and (2) a station transformer at the powerhouse to connect the turbine output to a 13.8-kilovolt (kV) distribution line owned by Tacoma Power. Water would enter the powerhouse from the existing Pipeline 1, and exit the powerhouse directly into McMillan Reservoir. The project would produce an estimated average annual generation of about 2,400 megawatt-hours (MWh).

Site #2—Second Supply Pipeline into P4

(1) A new powerhouse, located at the Portland Avenue Reservoir, containing two turbine/generating units with a total installed capacity of 500 kW; and (2) a station transformer at the powerhouse to connect the turbine output to a 13.8-kV distribution line owned by Tacoma Power. Water would enter the powerhouse from the second supply pipeline and exit the powerhouse into either Pipeline 4 or into the Portland Avenue Reservoir. The project would produce an estimated average annual generation of about 2,400 MWh.

Site #3—Second Supply Pipeline at the Flow Control Facility

(1) A new powerhouse, located at the 112th Street Flow Control Facility site, containing two turbine/generating units with a total installed capacity of 1,200 kW; and (2) a station transformer at the powerhouse to connect the turbine output to a 13.8-kV distribution line owned by Tacoma Power. Water would enter the powerhouse from the second supply pipeline, and exit the powerhouse back into the second supply pipeline. The project would produce an estimated average annual generation of about 5,100 MWh.

Site #4—North Fork Well Field

(1) A new powerhouse, located at the Green River headworks at the lower end of the Green River Watershed, containing two turbine/generating units with a total installed capacity of 800 kW; and (2) a station transformer at the powerhouse to connect the turbine output to a 13.8-kV distribution line owned by Tacoma Power. Water would enter the powerhouse from the existing pipeline that brings water to the headworks from the North Field wells, and exit the powerhouse back into the existing Headworks Reservoir. The project would produce an estimated average annual generation of about 3,300 MWh.

The combined generating capacity of all four sites would be 3,000 kW and the total estimated average annual generation would be 13,200 MWh.

Applicant Contact: Mr. Glen George, Water Supply Manager, Tacoma Water, 3628 South 35th Street, Tacoma, Washington 98409-3192; phone: (253) 502-8737.

FERC Contact: Kelly Wolcott; phone: (202) 502-6408.

Deadline for filing comments and motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13885-000) in the docket number field to access the document. For assistance, contact FERC Online Support.

Dated: March 2, 2011.
Kimberly D. Bose,
Secretary.

[FR Doc. 2011-5321 Filed 3-8-11; 8:45 am]

BILLING CODE 6717-01-P